DEPARTMENT OF THE INTERIOR

Bureau of Indian Affairs

DEPARTMENT OF HEALTH AND HUMAN SERVICES

Indian Health Service

Extension, Without Changes of Agency Information Collection for Indian Self-Determination and Education Assistance Contracts

AGENCIES: Bureau of Indian Affairs, DOI, and Indian Health Service, HHS.

ACTION: Notice of request for comments.

SUMMARY: In compliance with Section 3506(c)(2)(A) of the Paperwork Reduction Act of 1995, which requires 60 days for public comment on proposed information collection projects, the Bureau of Indian Affairs (BIA) and the Indian Health Service (IHS) are publishing for comment, a summary of a proposed information collection, titled “Indian Self-Determination and Education Assistance Contracts, 25 CFR part 900,” to be submitted to the Office of Management and Budget (OMB) for review. The information is collected to process contracts, grants or cooperative agreements (contracts) for award by BIA and IHS, as authorized by the Indian Self-Determination and Education Assistance Act (ISDEAA), as amended (25 U.S.C. 450 et seq.). This previously approved information collection (OMB Control Number 1076-0136) expires May 31, 2013.

DATES: Submit comments on or before May 7, 2013.

Send Comments To: You may submit comments regarding the BIA information collection activities (OMB Control No. 1076-0136) to Terry Parks, Division Chief, BIA Office of Indian Services, 1849 C Street NW., Mail Stop 4513, Washington, DC 20240; send via facsimile to (202) 208-5113; or send via email to Terrence.Parks@bia.gov. Comments relating to the IHS information collection activities (OMB Control No. 1076-0136) may be sent to Roselyn Tso, Acting Director, IHS Office of Direct Services and Contracting Tribes (ODSCT), 801 Thompson Ave., Ste. 220, Rockville, MD 20852; send via facsimile to (301) 443-4446; or send via email to Roselyn.Tso@ihs.gov.

FOR FURTHER INFORMATION CONTACT: Terry Parks through the methods listed in the above section or by calling (202) 513-7625 regarding the BIA information collection activities (OMB Control No. 1076-0136); and contact Roselyn Tso through the methods listed in the above section or by calling (301) 443-1104, regarding the IHS information collection activities (OMB Control No. 1076-0136).

SUPPLEMENTARY INFORMATION:

I. Abstract

Representatives of the BIA and IHS seek renewal of the approval for information collections conducted under their joint rule, 25 CFR part 900, implementing the ISDEAA. The Act requires the joint rule to govern how contracts are awarded to Indian tribes, thereby avoiding the unnecessary burden or confusion associated with two sets of rules and information collection requirements. See 25 U.S.C. 450k(a)(2)(A)(ii). The joint rule at 25 CFR part 900 was developed through negotiated rulemaking with tribes in 1996 and governs, among other things, what must be included in a tribe's initial ISDEAA contract proposal to the BIA or IHS. There is no change to the approved burden hours for this information collection.

The information requirements for this joint rule represent significant differences from other agencies in several respects. Under the Act, the Secretaries of Health and Human Services and the Department of the Interior are directed to enter into self-determination contracts with tribes upon request, unless specific declination criteria apply, and, generally, tribes may renew these contracts annually, whereas other agencies provide grants on a discretionary or competitive basis. Both the BIA and IHS award contracts for multiple programs whereas other agencies usually award single grants to tribes.

The BIA and IHS use the information collected to determine applicant eligibility, evaluate applicant capabilities, protect the service population, safeguard Federal funds and other resources, and permit the Federal agencies to administer and evaluate contract programs. Tribal governments or tribal organizations provide the information by submitting Public Law 93-638 contract proposals to the appropriate Federal agency. No third party notification or public disclosure burden is associated with this collection.

II. Request for Comments

The BIA and IHS request your comments on this collection concerning: (a) The necessity of this information collection for the proper performance of the functions of the agency, including whether the information will have practical utility; (b) the accuracy of the agency's estimate of the burden (hours and cost) of the collection of information, including the validity of the methodology and assumptions used; (c) ways we could enhance the quality, utility, and clarity of the information to be collected; and (d) ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0136.

Title: Indian Self-Determination and Education Assistance Contracts, 25 CFR part 900.

Brief Description of Collection: An Indian tribe or tribal organization is required to submit this information each time that it proposes to contract with BIA or IHS under the ISDEAA. Each response may vary in its length. In addition, each subpart of 25 CFR part 900 concerns different parts of the contracting process. For example, subpart C relates to provisions of the contents for the initial contract proposal. The respondents do not incur the burden associated with subpart C when contracts are renewed. Subpart F describes minimum standards for management systems used by Indian tribes or tribal organizations under these contracts. Subpart G addresses the negotiability of all reporting and data requirements in the contracts. Responses are required to obtain or retain a benefit.

Type of Review: Extension without change of currently approved collection.

Respondents: Federally recognized Indian tribes and tribal organizations.

Number of Respondents: 550.

Estimated Number of Responses: 5,267.

Estimated Time per Response: Varies from 10 to 50 hours, with an average of 45 hours per response.

Frequency of Response: Each time programs are contracted from the BIA or IHS under the ISDEAA.

Estimated Total Annual Hour Burden: 219,792 hours.

Comment Due Date: Your comments regarding this information collection are best assured of having their full effect if received within 60-days of the date of this publication.

Dated: February 28, 2013.
John Ashley,
Acting Assistant Director for Information Resources, Bureau of Indian Affairs.
Dated: February 25, 2013.
Yvette Roubideaux,
Director, Indian Health Service.

[FR Doc. 2013-05498 Filed 3-7-13; 8:45 am]

BILLING CODE 4310-4J-P